DEPARTMENT OF COMMERCE

International Trade Administration

Applications for Duty-Free Entry of Scientific Instruments

Pursuant to Section 6(c) of the Educational, Scientific and Cultural Materials Importation Act of 1966 (Pub. L. 89-651, as amended by Pub. L. 106-36; 80 Stat. 897; 15 CFR part 301), we invite comments on the question of whether instruments of equivalent scientific value, for the purposes for which the instruments shown below are intended to be used, are being manufactured in the United States.

Comments must comply with 15 CFR 301.5(a)(3) and (4) of the regulations and be filed within 20 days with Statutory Import Programs Staff, U.S. Department of Commerce, Room 2104, 14th and Constitution Ave., NW., Washington, DC 20230. Applications may be examined between 8:30 a.m. and 5:00 p.m. in Room 2104, U.S. Department of Commerce.

Docket Number: 07-041. Applicant: University of Georgia, Driftmier Engineering Center, Athens, GA. Instrument: Electron Microscope, Model Inspect F. Manufacturer: FEI Company, The Netherlands. Intended Use: The instrument is intended to be used to investigate the morphology, size and size distribution of various synthesized nanomaterials. Results will be used to optimize the growth conditions to achieve controlled growth of nanostructures with desired morphology, size and functionalities. Application accepted by Commissioner of Customs: June 29, 2007.

Docket Number: 07-045. Applicant: Florida Fish and Wildlife Research Institute, Saint Petersburg, FL. Instrument: Electron Microscope, Model JEM-1400. Manufacturer: JEOL Ltd., Japan. Intended Use: The instrument is intended to be used to visualize the ultrastructure of various organisms to understand growth and disease processes. Examples include studies of: screening for viruses in sea grass, fish testis and ovarian development, termination of harmful algal blooms and the reproductive developmental processes in the blue crab and in clams. Application accepted by Commissioner of Customs: June 11, 2007.

Docket Number: 07-046. Applicant: Howard Hughes Medical Institute, Chevy Chase, MD. Instrument: Electron Microscope, Model Tecnai G2 20 TWIN. Manufacturer: FEI Company, Czech Republic. Intended Use: The instrument is intended to be used initially for a large scale brain imaging effort based on thin sections of tissue from model organisms such as the rat, the fruit fly and the nematode. The objective is to provide complete brain circuitry information based on high resolution imaging of these organisms. Application accepted by Commissioner of Customs: July 16, 2007.

Docket Number: 07-048. Applicant: The University of Michigan, Department of Materials Science and Engineering, Ann Arbor, MI. Instrument: Low Voltage Electron Microscope. Manufacturer: Delong Instruments, Czech Republic. Intended Use: The instrument is intended to be used for the design and optimization of materials that can be used to create a stable, sensitive interface between electrically active tissue and electronic devices and to characterize the thickness, morphology, crystallinity, and uniformity of coatings developed to accommodate the variations in mechanical properties, electrical activity, and bioactive response across the interface between a mechanical device and tissue. Application accepted by Commissioner of Customs: July 19, 2007.

Docket Number: 07-042. Applicant: University of Arizona, Department of Physics, Tucson, AZ. Instrument: Low Temperature Ultra-high Vacuum Scanning Tunneling Microscope. Manufacturer: Omicron NanoTechnology GmbH, Germany. Intended Use: The instrument is intended to be used to study several low-dimensional materials including carbon nanotubes and semiconductor nanowires in order to: (1) Correlate electrical properties with optical techniques to understand the role of excitons in the measured optical properties, (2) Determine the limits to carbon nanotube device performance by measuring the scattering lengths which degrade their performance and (3) Develop a fundamental understanding of low-dimensional materials in particular unique aspects of one-dimensional metals.

The instrument must provide a temperature at the sample down to 5 K, cool down time to 5 K as low as 6 hours, with 15 hours between refills, Z-resolution to 0.01 nm and achievable vacuum to 10 to the 11th mbar with guaranteed atomic resolution in constant current and constant height on Au(111). Application accepted by Commissioner of Customs: June 29, 2007.

Dated: July 25, 2007.
Faye Robinson,
Director, Statutory Import Programs Staff, Import Administration.

[FR Doc. E7-14669 Filed 7-27-07; 8:45 am]

BILLING CODE 3510-DS-P